DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Quarterly Financial Reports (QFR) Program.

Form Number(s): QFR-101(MG), 101A(MG), 102(TR), 103(NB).

Agency Approval Number: 0607-0432.

Type of Request: Extension of a currently approved collection.

Burden: 77,708 hours.

Number of Respondents: 13,125.

Avg Hours Per Response: 2 hours and 3 minutes.

Needs and Uses: The QFR Program has published up-to-date aggregate statistics on the financial results and position of U.S. corporations since 1947. It is a principal economic indicator that also provides financial data essential to calculation of key U.S. Government measures of national economic performance. The importance of this data collection is reflected by the granting of specific authority to conduct the program in Title 13 of the United States Code, Section 91, which requires that financial statistics of business operations be collected and published quarterly. Public Law 105-252 extended the authority of the Secretary of Commerce to conduct the QFR Program under Section 91 through September 30, 2005.

The QFR is scheduled to convert to the North American Industry Classification System (NAICS) in April 2002 with the publication of the fourth quarter 2001 data. With the adoption of the NAICS, a number of industries currently covered by QFR under the Standard Industrial Classification (SIC) system will be out of scope. Specifically, QFR will no longer collect data from companies primarily engaged in Publishing and Printing, except Commercial Printing; Logging; and Eating and Drinking Places. Publishing and Printing was moved to the NAICS Information sector; Logging to the Agriculture, Forestry; Fishing, and Hunting sector; Eating and Drinking Places to the Accommodation and Food Services sector. This request is for extension of the current OMB approval.

Affected Public: Businesses or other for-profit organizations.

Frequency: Quarterly and annually.

Respondent's Obligation: Mandatory.

Legal Authority: Title 13 USC, Section 91; P.L. 105-252.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: May 15, 2001.
Madeleine Clayton,
Departmental Paperwork Clearance Officer, Office of the Chief Information Officer.

[FR Doc. 01-12672 Filed 5-18-01; 8:45 am]

BILLING CODE 3510-07-U